DEPARTMENT OF LABOR

Employment and Training Administration

[TA-W-38,732 and TA-W-38,732A]

Haggar Clothing Company; Amended Certification Regarding Eligibility To Apply for Worker Adjustment Assistance

In accordance with section 223 of the Trade Act of 1974 (19 U.S.C. 2273) the Department of Labor issued a Notice of Certification Regarding Eligibility to Apply for Worker Adjustment Assistance on April 12, 2001, applicable to workers of Haggar Clothing Company, Edinburg Manufacturing, Edinburg, Texas and Haggar Clothing Company, Weslaco Operations, Weslaco, Texas. The notice was published in the Federal Register on May 2, 2001 (FR 66 22006).

At the request of the State agency, the Department reviewed the certification for workers of the subject firm. The workers are engaged in the production of men's coats and pants. New information shows that some workers separated from employment at the subject firm had their wages reported under two separate unemployment insurance (UI) tax accounts: Haggar Clothing Company, Edinburg Manufacturing, Waxahachie Garment Company, Edinburg Direct Garment Company, Inc., and Haggar Clothing Company, Weslaco Operations, Weslaco Direct Cutting Co., Inc., Weslaco Cutting, Inc.

Accordingly, the Department is amending the certification to properly reflect this matter.

The intent of the Department's certification is to include all workers of Haggar Clothing Company, Edinburg Manufacturing, Waxahachie Garment Company, Edinburg Direct Garment Company, Inc. and Haggar Clothing Company, Weslaco Operations, Weslaco Direct Cutting Company, Inc., Weslaco Cutting, Inc. who were adversely affected by increased imports.

The amended notice applicable to TA-W-38,732 and TA-W-38,732A are hereby issued as follows

All workers of Haggar Clothing Company, Edinburg Manufacturing, Waxahachie Garment Company, Edinburg Direct Garment Company, Inc., Edinburg, Texas (TA-W-38,732) and Haggar Clothing Company, Weslaco Operations, Weslaco Direct Cutting Company, Inc., Weslaco Cutting, Inc., Weslaco, Texas (TA-W-38,732A) who became totally or partially separated from employment on or after May 1, 2001 through April 12, 2003 are eligible to apply for adjustment assistance under section 223 of the Trade Act of 1974.

Signed at Washington, DC this 16th day of July , 2001.
Linda G. Poole,
Certifying Officer, Division of Trade Adjustment Assistance.

[FR Doc. 01-18623 Filed 7-25-01; 8:45 am]

BILLING CODE 4510-30-M